DEPARTMENT OF COMMERCE

National Oceanic and Atmospheric Administration

50 CFR Part 660

[Docket No. 170630616-7875-01]

RIN 0648-BH00

Magnuson-Stevens Act Provisions; Fisheries Off West Coast States; Pacific Coast Groundfish Fishery; Commercial Management Measures

AGENCY: National Marine Fisheries Service (NMFS), National Oceanic and Atmospheric Administration (NOAA), Commerce.

ACTION: Advanced notice of proposed rulemaking; request for comments.

SUMMARY: This advanced notice of proposed rulemaking provides information on a request by the Pacific Fishery Management Council (Council) to announce deliberations of potential accumulation limits for Catcher Processor Permit use or ownership in the Pacific Coast groundfish fishery. The Council may not count any acquisition and usage of Catcher Processor permits and/or usage of Catcher Processor allocation after the date of June 13, 2017, in any decision setting accumulation limits. NMFS invites comments on this document.

DATES: Written comments must be received by November 3, 2017.

ADDRESSES: You may submit comments on the proposed rule identified by “NOAA-NMFS-2017-0109” by either of the following methods:

• Electronic Submission: Submit all electronic public comments via the Federal e-Rulemaking Portal. Go to www.regulations.gov/#!docketDetail;D=NOAA-NMFS-2017-0109, click the “Comment Now!” icon, complete the required fields, and enter or attach your comments.

• Mail: Submit written comments to Frank Lockhart, NMFS West Coast Regional Office, 7600 Sand Point Way NE., Seattle, WA 98115.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Frank Lockhart, NMFS West Coast Regional Office, telephone: 206-526-6142, or email: frank.lockhart@noaa.gov.

SUPPLEMENTARY INFORMATION: The Pacific Fishery Management Council (Council) recommended and the National Marine Fisheries Service (NMFS) implemented the Pacific Coast groundfish trawl catch share program (Program) off Washington, Oregon and California, starting on January 11, 2011. The Program changed management of harvest in the trawl fishery from a trip limit system with cumulative vessel trip limits to a quota system in which each quota share could generally be harvested at any time during an open season. The Program has increased fishermen's flexibility in making decisions on when and how much quota to fish.

The Magnuson-Stevens Act requires that councils undertake reviews within 5 years after implementation of limited access privilege programs such as the Pacific Coast groundfish trawl catch share program. The Council initiated its review in 2016, and expects to recommend changes to the Program in the coming months.

One of the issues that the Council is considering is accumulation limits for the Catcher Processor (CP) sector. In establishing the initial Program, the Council addressed accumulation limits for the ownership or control within the shoreside IFQ sector and the mothership sector, but not the CP sector. The accumulation limits were meant to prevent consolidation at levels that could result in an excessive share being acquired by a single entity. At the June 2017 Council meeting, the Council began considering whether or not similar accumulation limits on ownership or control should be applied to the CP sector as well, and it recommended that NMFS announce the start of these deliberations in the Federal Register.

In advance of a rulemaking on changes to the Program, this document announces that the Council may not count any activities related to acquisition and usage of CP permits and/or usage of CP allocation after the date of June 13, 2017, when establishing accumulation limits for the CP sector. This is intended to discourage increased acquisition and usage of CP permits and/or usage of CP allocation for the purpose of economic speculation while the Council develops and considers changes to the Program.

This announcement does not commit the Council or the NMFS to any particular outcome. The Council may or may not make use of this date as part of any deliberations and decisions on acquisition and usage of CP permits and/or usage of CP allocation. Fishery participants are not guaranteed future participation in the program, regardless of their entry date or level of participation in the fishery before or after June 13, 2017. It is important to note that continuation of levels of accumulation that predate June 13, 2017 are not guaranteed. The Council also may choose to take no further action.

Authority: 16 U.S.C. 1801 et seq.

Dated: September 28, 2017.
Samuel D. Rauch, III,
Deputy Assistant Administrator for Regulatory Programs, National Marine Fisheries Service.

[FR Doc. 2017-21254 Filed 10-3-17; 8:45 am]

BILLING CODE 3510-22-P